DEPARTMENT OF DEFENSE

Office of the Secretary

National Security Education Board; Notice of Federal Advisory Committee Meeting

AGENCY: Under Secretary of Defense for Personnel and Readiness, Department of Defense.

ACTION: Notice of Federal Advisory Committee meeting.

SUMMARY: The Department of Defense (DoD) is publishing this notice to announce that the following Federal Advisory Committee meeting of the National Security Education Board will take place.

DATES: The meeting will last from 10:00 a.m. to 4:30 p.m., Wednesday, September 6, 2017.

ADDRESSES: Capital Hilton Hotel, 1001 16th Street NW., Washington, DC 20036.

FOR FURTHER INFORMATION CONTACT: Michael Nugent, (571) 256-0702 (Voice), (703) 692-2615 (Facsimile), michael.a.nugent22.civ@mail.mil (Email). Mailing address is National Security Education Program, 4800 Mark Center Drive, Suite 08F09-02, Alexandria, VA 22350-7000. Web site: https://www.nsep.gov/content/national-security-education-board. The most up-to-date changes to the meeting agenda can be found on the Web site.

SUPPLEMENTARY INFORMATION: Due to circumstances beyond the control of the Designated Federal Officer and the Department of Defense, the National Security Education Board was unable to provide public notification concerning its meeting on September 6, 2017, as required by 41 CFR 102-3.150(a). Accordingly, the Advisory Committee Management Officer for the Department of Defense, pursuant to 41 CFR 102-3.150(b), waives the 15-calendar day notification requirement.

This meeting is being held under the provisions of the Federal Advisory Committee Act (FACA) of 1972 (5 U.S.C., Appendix, as amended), the Government in the Sunshine Act of 1976 (5 U.S.C. 552b, as amended), and 41 CFR 102-3.140 and 102-3.150.

Pursuant to 41 CFR 102-3.140 and sections 10(a)(3) of the Federal Advisory Committee Act of 1972, the public or interested organizations may submit written statements to the Department of Defense National Security Education Board about its mission and functions. Written statements may be submitted at any time or in response to the stated agenda of the planned meeting. All written statements shall be submitted to the Designated Federal Official for the National Security Education Board, and this individual will ensure that the written statements are provided to the membership for their consideration. Contact information for the Designated Federal Official can be obtained from the GSA's FACA Database— http://www.facadatabase.gov/. Statements being submitted in response to the agenda mentioned in this notice must be received by the Designated Federal Official at the address listed in FOR FURTHER INFORMATION CONTACT at least five calendar days prior to the meeting that is the subject of this notice. Written statements received after this date may not be provided to or considered by the National Security Education Board until its next meeting. The Designated Federal Official will review all timely submissions with the National Security Education Board and ensure they are provided to all members of the National Security Education Board before the meeting that is the subject of this notice. Committee's Point of Contact: Alison Patz, Alternate Designated Federal Official, (571) 256-0771, Alison.m.patz.civ@mail.mil.

Purpose of the Meeting: The purpose of the meeting is to review and make recommendations to the Secretary of Defense concerning requirements established by the David L. Boren National Security Education Act, Title VII of Public Law 102-183, as amended.

Agenda: 10:00 a.m.—Welcome and Chair Opening Remarks. 10:30 a.m.—NSEP Programmatic Updates. 11:00 a.m.—National Language Service Corps. 11:30 a.m.—Outreach and Recruitment Strategies: Strengthening the Boren and Flagship Pipeline. 12:30 p.m.—Working Lunch with Boren Scholars and Fellows. 1:30 p.m.—Intelligence Community Engagement: Reflections from Interagency Chief Human Capital Officers. 2:30 p.m.—Interagency Language Program Updates. 3:15 p.m.—The Language Flagship Competition Cycle: Best Practices and Way Forward. 4:00 p.m.—Board Discussion. 4:30 p.m.—Adjourn.

Meeting Accessibility: Pursuant to 5 U.S.C. 552b and 41 CFR 102-3.140 through 102-3.165, and the availability of space, this meeting is open to the public. Seating is on a first-come basis.

Dated: August 24, 2017.
Aaron Siegel,
Alternate OSD Federal Register Liaison Officer, Department of Defense.

[FR Doc. 2017-18311 Filed 8-28-17; 8:45 am]

BILLING CODE 5001-06-P